ENVIRONMENTAL PROTECTION AGENCY

[FRL-7967-4]

Connecticut Marine Sanitation Device Standard; Receipt of Petition

Notice is hereby given that a petition has been received from the State of Connecticut requesting a determination by the Regional Administrator, U.S. Environmental Protection Agency, pursuant to Section 312(f)(3) of Public Law 92-500 as amended by Public Law 95-217 and Public Law 100-4, that adequate facilities for the safe and sanitary removal and treatment of sewage from all vessels are reasonably available for the area covered under this petition, which is:

Waterbody/general area | Latitude | Longitude
Hoadley Point in Guilford | 41°15′22.88″ N | 72°44′09.73″ W
Due South from Hoadley to the Boundary between CT and NY | 41°07′51.17″ N | 72°44′09.73″ W
Easterly boundary between CT and NY to a point due South of Eastern Point in Groton | 41°15′54.55″ N | 72°04′31.09″ W
Due North to Easter Point in Groton | 41°19′08.94″ N | 72°04′31.09″ W
CT and MA State boundary of the CT River | 42°01′54.69″ N | 72°36′31.02″ W
Navigable Rivers: Hammonasset, Menunketesuck, Niantic and the Thames

The area also includes the navigable reaches of the Hammonasset River, Menunketesuck River, Niantic River and the Thames River that drain into Long Island Sound, and the Connecticut River within State boundaries.

The coastal towns bordering the proposed No Discharge Area are: Guilford, Madison, Clinton, Westbrook, Old Saybrook, Old Lyme, East Lyme, Waterford, and New London. There are 26 inland towns which border the five rivers that are included in this proposed No Discharge Area designation.

The State of Connecticut has certified that there are 36 pumpout facilities located within the proposed area, and a list of the facilities, phone numbers, locations, and hours of operation is appended at the end of this petition. There are 29 fixed shore-based facilities, four portable facilities, three pumpout boats, and ten dump stations. Three of the fixed shore facilities offer additional portable facilities. The majority of the pumpout facilities' wastes are collected in a holding tank and then properly disposed, by a licensed waste hauler to an off site facility. In Groton, Norwich, New London, Waterford, and East Lyme, pumpout facilities discharge directly to the town sewer systems.

In addition, there are approximately 107 marinas, docking areas, and boatyards within the proposed No Discharge Area, and the majority of these marine facilities have restrooms available for their patrons.

The State of Connecticut has provided documentation indicating that the total vessel population is estimated to be 7500 in the proposed area. Of these, approximately 7200 are identified as recreational, 300 are identified as commercial, and the transient vessel population is estimated to be 430, which is included in the total figure. It is estimated that 4,000 or 53% of the total vessel population may have a Marine Sanitation Device (MSD) of some type. These total numbers may be overestimated and conservative by the State of Connecticut, which would give the boating public a larger ratio of pumpouts to boats (300-600 vessels for every one facility.)

There are 36 wildlife management areas, two state parks, approximately 33 public beaches, and 19 boat ramps located within the proposed No Discharge Area. The area is used by both recreational and commercial shell fishermen for the harvest of hard clams, small populations of bay scallops, soft shell clams and blue mussels. In addition fishing is commonplace and the species found in the area include hickory shad, striped bass, bluefish, summer flounder, scup, weakfish and blackfish. The proposed area has a variety of rich natural habitats and supports a wide diversity of species. The federally listed species include the bald eagle, shortnose sturgeon, piping plover, and the puritan tiger beetle as well as dozens of state-rare and endangered species.

Comments and reviews regarding this request for action may be filed on or before October 31, 2005. Such communications, or requests for information or a copy of the applicant's petition, should be addressed to Ann Rodney, U.S. Environmental Protection Agency—New England Region, One Congress Street, Suite 1100, COP, Boston, MA 02114-2023. Telephone: (617) 918-1538.

List of Pumpouts in the Proposed Area
Name | Location | Contact information | Hours of operation (call ahead to verify) | Mean low water depth (feet) | Fee
The Guilford Yacht Club | West River, Guilford | VHF CH 71, 203-458-3048 | May 1-Nov 30, daily 8 a.m. to 5 p.m. | 8 | Free / $5 for non-members.
Cerino's Marina at Clinton Yacht Haven | Hammonasset River, Clinton | VHF CH 9, 72, 860-669-7716 | May 1-Nov 1, daily 9 a.m. to 5 p.m. | 9 | $5.
Riverside Basin Marina Inc | Hammonasset River, Clinton | VHF CH 9, 860-669-1503 | May 1-Oct 31, daily 7 a.m. to 5 p.m. | 6 | Free.
Cedar Island Marina | Clinton Harbor, Clinton | VHF CH 9, 68, 860-669-8681 | May 1-Oct 31, daily 8 a.m. to 5 p.m. | 8 | Free / $5 for non-members.
Brewer Pilot's Point Marina (North Yard) | Westbrook Harbor, Westbrook | VHF CH 9, 860-399-5128 | July 1-Aug 31, daily 8 a.m. to 8 p.m. | 8 | Free / $5 for non-members.
Brewer Pilot's Point (East Yard) | Westbrook Harbor, Westbrook | VHF CH 9, 860-399-8421 | July 1-Aug 31, daily 8 a.m. to 8 p.m. | 7 | Free / $5 for non-members.
Brewer Pilot's Point Marina (South Yard) | Westbrook Harbor, Westbrook | VHF CH 9, 860-399-7806 | July 1-Aug 31, daily 8 a.m. to 8 p.m. | 12 | Free / $5 for non-members.
Brewer Pilot's Point Marina (Pumpout Boat) | Westbrook Harbor, Westbrook | VHF CH 9, 860-399-7806 | July 1-Aug 31, daily 8 a.m. to 8 p.m. | 12 | $5.
Harry's Marine Repair | Patchogue River, Westbrook | 860-399-6165 | April 1-Oct 31, daily 8 a.m. to 4:30 p.m. | 7 | $5.
Saybrook Point Marina | Connecticut River, Old Saybrook | VHF CH 9 860-395-3080 | May 1-Oct 31, daily 8 a.m. to 5 p.m. | 7 | $5.
Brewer Ferry Point Marina | Connecticut River, Old Saybrook | VHF CH 9 860-388-3260 | May 1-Oct 31, M-W 8 a.m.-4:30 p.m., Th-F 8 a.m.-6 p.m., Sun 8 a.m.-5 p.m. | 6 | Free.
Between the Bridges Marina | Connecticut River, Old Saybrook | VHF CH 7, 9 860-388-1431 | May 1-Nov 15, daily 8 a.m.-5 p.m. | 14 | $10.
Ragged Rock Marina | Connecticut River, Old Saybrook | 860-388-1049 | May 1-Nov 30, 9 a.m.-4 p.m. | 10 | $5.
Lower Connecticut River Pumpout Boat | Lower Connecticut River | VHF CH 68 | TBD | N/A | Free.
State DEP Marine Division | Connecticut River, Old Lyme | VHF CH 9 860-434-8638 | Memorial Day-Columbus Day, M-F 8 a.m. to 5 p.m., Sat, Sun and Monday holidays 9 a.m.-7 p.m. | 4 | Free.
Seaboard Marina | Connecticut River, Glastonbury | VHF CH 68 860-657-3232 | Apr 1-Oct 31, daily 9 a.m.-5 p.m. | 7 | $5.
Yankee Boat Yard & Marina | Connecticut River, Portland | VHF CH 68, 860-342-4735 | Apr 1-Nov 30, daily 8 a.m.-6 p.m. | 10 | $5.
Midway Marina | Connecticut River, Haddam | VHF CH 9, 13 | May 1-Oct 31, M-F 8 a.m.-4:30 p.m., Sat 10 a.m.-3 p.m., Sun by appointment | 8 | Free/$5 for non-members.
Andrews Marina | Connecticut River, East Haddam | 860-345-2286 | May 1-Nov 30, daily 9 a.m.-6 p.m. | 5 | Free.
Hays Haven Marina | Connecticut River, Chester | VHF CH 9, 860-526-9366 | May 1-Oct 31, daily 8 a.m.-5 p.m. | 6 | Free.
Chrisholm Marina | Connecticut River, Chester | VHF CH 9, 860-526-5147 | Apr 1-Nov 30, daily 8 a.m.-5 p.m. | 6 | Free.
Chester Marina | Connecticut River, Chester | VHF CH 9, 860-526-2227 | No data | 6 | No data.
Brewer Deep River Marina | Connecticut River, Deep River | VHF CH 9, 860-526-5580 | May 1-Oct 31, daily 8 a.m.-4 p.m. | 10 | $5.
Brewer Dauntless Shipyard | Connecticut River, Essex | VHF CH 9, 860-767-0001 | June 1-Sept 30, daily 7:30 a.m. to 5 p.m. | 12 | Free / $5 for non-members.
The Chandlery at Essex | Connecticut River, Essex | VHF CH 68, 860-767-8257 | May 1-Oct 31, M-Th 8 a.m.-5 p.m., F-Sun 8 a.m.-6 p.m. | 12 | Free / $5 for non-members.
Reynold's Garage and Marine | Hamburg Cove, Lyme | 860-434-0028 | May 1-Oct 31 M-Sat 9-5 | 4-5 | $5.
Niantic Bay Marina | Niantic River, Waterford | VHF CH 9, 860-782-3774 | May 1-Oct 31, M-Th 10 a.m.-4 p.m. | 5 | $5.
Port Niantic Marina | Niantic River, East Lyme | VHF CH 9, 860-739-2155 | May 1-Oct 15, M-F 8 a.m.-4:30 p.m., Sat and Sun 8 a.m.-12 p.m. | 7 | $5.
Bayreuther's Boat Yard, Inc | Smith Cove (Niantic), East Lyme | VHF CH 8, 9, 860-739-6264 | May 1-Oct 31, daily 9 a.m.-4 p.m. | 6 | $0.50 per gallon.
Niantic River Pumpout Boat | Niantic River, East Lyme, Waterford | VHF CH 68 | May 30-Nov 1, Sat, Sun and Monday holidays 9 a.m.-5 p.m. | N/A | Free.
Niantic Dockominium | Niantic River, East Lyme | 860-739-8585 | May 15-Nov 15, 8 a.m.-4 p.m. |  | $5.
Burr's Yacht Haven, Inc | Thames River, New London | VHF CH 9, 78, 860-443-8457 | May 1-Oct 31 M-Th 8:30 a.m.-5:30 p.m., F-Sun 8:30 a.m.-6:30 p.m. | 9 | $5.
Thamesport Marina | Thames River, New London | VHF CH 9, 68, 860-437-7022 | Mar 1-Nov 30, daily 8 a.m.-8 p.m. | 13 | $5.
Crocker's Boatyard, Inc | Thames River, New London | VHF CH 9, 10, 860-443-6304 | Mar 1-Nov 30, daily 7:30 a.m.-5 p.m. | 12 | Free.
City of Groton Wastewater Treatment Facility | Thames River, New London | VHF CH 72, 860-446-4806 | May 1-Oct 31, M-F 7 a.m.-3 p.m., Sat-Sun 7 a.m.-10 p.m. | 20+ | $5.
Marina at American Wharf | Thames River (Norwich Harbor), Norwich | VHF CH 68, 860-886-6363 | Apr 1-Nov 30, daily 8 a.m.-8 p.m. | 25 | $3 (portable), Free at gas dock.

Dated: August 31, 2005.
Robert W. Varney,
Regional Administrator, New England Region.

[FR Doc. 05-18014 Filed 9-15-05; 8:45 am]

BILLING CODE 6560-50-P